FEDERAL COMMUNICATIONS COMMISSION

47 CFR Part 73

[DA 03-1119; MB Docket No. 02-240, RM-10530; MB Docket No. 02-241, RM-1-531; MB Docket No. 02-242, RM-10532; MB Docket No. 02-244, RM-10534; MB Docket No.02-245, RM-10544; MB Docket No. 02-246, RM-10535; MB Docket No. 02-247, RM-10536; and MB Docket No. 02-249, RM-10538]

Radio Broadcasting Services; Clayton, OK, Guthrie, TX, Hebbronville, TX, Premont, TX, Roaring Springs, TX, Rocksprings, TX, Thomas, OK and Sanderson, TX

AGENCY: Federal Communications Commission.

ACTION: Final rule.

SUMMARY: In response to a Notice of Proposed Rule Making, 67 FR 57779 (September 12, 2002), this document grants eight proposals that allot new FM channels to Clayton and Thomas, Oklahoma; Guthrie, Hebbronville, Premont, Roaring Springs, Rocksprings, and Sanderson, Texas. Filing windows for Channel 241 at Clayton, Oklahoma; Channel 288A at Thomas, Oklahoma; Channel 252A at Guthrie, Texas; Channel 232A at Hebbronville, Texas; Channel 287A at Premont, Texas; Channel 276C3 at Roaring Springs, Texas; Channel 291A at Rocksprings, Texas; and Channel 286C2 at Sanderson, Texas, will not be opened at this time. Instead, the issue of opening these allotments for auction will be addressed by the Commission in a subsequent order. See SUPPLEMENTARY INFORMATION.

DATES: Effective May 27, 2003.

FOR FURTHER INFORMATION CONTACT: R. Barthen Gorman, Media Bureau, (202) 418-2180.

SUPPLEMENTARY INFORMATION: This is a synopsis of the Commission's Report and Order in MB Docket Nos. 02-240 through 02-242, MB Docket Nos. 02-244 through 02-247, and MB Docket No. 02-249, adopted April 9, 2003, and released April 11, 2003. The full text of this Commission decision is available for inspection and copying during normal business hours in the FCC Reference Information Center at Portals II, 445 12th Street, SW., Room CY-A257, Washington, DC 20554. The document may also be purchased from the Commission's duplicating contractor, Qualex International, Portals II, 445 12th Street, SW., Room CY-B402, Washington, DC 20554, telephone 202 863-2893, facsimile 202 863-2898, or via e-mail qualexint@aol.com.

The Audio Division, at the request of Jeraldine Anderson, allots Channel 241A at Clayton, Oklahoma, as the community's first local aural transmission service. Channel 241A can be allotted at Clayton in compliance with the Commission's minimum distance separation requirements with a site restriction of 14.7 kilometers (9.1 miles) south of Clayton. The coordinates for Channel 241A at Clayton are 34-27-28 North Latitude and 95-22-01 West Longitude.

The Audio Division, at the request of Linda Crawford, allots Channel 252A at Guthrie, Texas, as the community's first local aural transmission service. Channel 252A can be allotted to Guthrie in compliance with the Commission's minimum distance separation requirements with a site restriction of 9.8 kilometers (6.1 miles) northwest of Guthrie. The coordinates for Channel 252A at Guthrie are 33-41-26 North Latitude and 100-23-15 West Longitude.

The Audio Division, at the request of Linda Crawford, allots Channel 232A at Hebbronville, Texas, as the community's third local aural transmission service. Channel 232 can be allotted to Hebbronville in compliance with the Commission's minimum distance separation requirements with a site restriction of 11.2 kilometers (7.0 miles) northwest of Hebbronville. The coordinates for Channel 232A at Hebbronville, are 27-23-18 North Latitude and 98-44-26 West Longitude. The Mexican Government has concurred in this allotment.

The Audio Division, at the request of Linda Crawford, allots Channel 287A at Premont, Texas, as the community's second local aural transmission service. Channel 287A can be allotted to Premont in compliance with the Commission's minimum distance separation requirements with a site restriction of 14.4 kilometers (8.9 miles) south of Premont. The coordinates for Channel 287A at Premont are 27-14-13 North Latitude and 98-10-27 West Longitude. The Mexican Government is still negotiating the question of whether it will approve this allotment. If a construction permit is granted prior to the receipt of formal concurrence in the allotment by the Mexican Government, the construction permit will include the following condition: “Operation with the facilities specified for Premont herein is subject to modification, suspension, or termination without right to hearing, if found by the Commission to be necessary in order to conform to the 1992 USA-Mexico FM Broadcast Agreement.”

The Audio Division, at the request of Linda Crawford, allots Channel 276C3 at Roaring Springs, Texas, as the community's first local aural transmission service. Channel 276C3 can be allotted to Roaring Springs in compliance with the Commission's minimum distance separation requirements with a site restriction of 7.8 kilometers (4.9 miles) northeast of Roaring Springs. The coordinates for Channel 276C3 at Roaring Springs are 33-55-44 North Latitude and 100-46-48 West Longitude.

The Audio Division, at the request of Charles Crawford, allots Channel 291A at Rocksprings, Texas, as the community's fourth local aural transmission service. Channel 291A can be allotted to Rocksprings in compliance with the Commission's minimum distance separation requirements with a site restriction of 14.4 kilometers (8.9 miles) southwest of Rocksprings. The coordinates for Channel 291A at Rocksprings are 29-57-03 North Latitude and 100-20-02 West Longitude. The Mexican Government has not notified the Commission as to whether it concurs with this allotment. If a construction permit is granted prior to the receipt of formal concurrence in the allotment by the Mexican Government, the construction permit will include the following condition: “Operation with the facilities specified for Rocksprings herein is subject to modification, suspension, or termination without right to hearing, if found by the Commission to be necessary in order to conform to the 1992 USA-Mexico FM Broadcast Agreement.”

The Audio Division, at the request of Linda Crawford, allots Channel 286C2 at Sanderson, Texas, as that community's first local aural transmission service. Channel 286C2 can be allotted to Sanderson in compliance with the Commission's minimum distance separation requirements with a site restriction of 20.6 kilometers (12.8 miles) southwest of Sanderson. The coordinates for Channel 286C2 at Sanderson are 30-03-18 North Latitude and 102-35-01 West Longitude. The Mexican Government has concurred in this allotment.

The Audio Division, at the request of Robert Fabian, allots Channel 288A at Thomas, Oklahoma, as that community's first local aural transmission service. Channel 288A can be allotted to Thomas, Oklahoma, in compliance with the Commission's minimum distance separation requirements with a site restriction of 9.2 kilometers (5.7 miles) north of Thomas. The coordinates for Channel 288A at Thomas are 35-49-46 North Latitude and 98-45-09 West Longitude.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Oklahoma, is amended by adding Clayton, Channel 241A, and Thomas, Channel 288A.

3. Section 73.202(b), the Table of FM Allotments under Texas, is amended by adding Guthrie, Channel 252A; Channel 232A at Hebbronville; Channel 287A at Premont; Roaring Springs, Channel 276C3; Channel 291A at Rocksprings; and Sanderson, Channel 286C2.

Federal Communications Commission.
John A. Karousos,
Assistant Chief, Audio Division, Media Bureau.

[FR Doc. 03-10329 Filed 4-25-03; 8:45 am]

BILLING CODE 6712-01-P